DEPARTMENT OF THE INTERIOR

Geological Survey

[GX22GS00EMMA900]

2021 Draft List of Critical Minerals; Correction

AGENCY: U.S. Geological Survey, Department of the Interior.

ACTION: Notice; correction.

SUMMARY: The U.S Geological Survey published a document in the Federal Register on November 9, 2021 that presented a description of the draft methodology used to identify a draft list of critical minerals; a draft list of minerals, elements, substances, and materials that qualify as critical minerals; and a draft list of critical minerals recovered as byproducts and their host minerals. The document contained a billing address code and docket number.

FOR FURTHER INFORMATION CONTACT: James Mosley, (703) 648-6312, jmosley@usgs.gov.

SUPPLEMENTARY INFORMATION:

Correction

In FR Doc. 2021-24488, appearing on page 62199 in the Federal Register of November 9, 2021, the following corrections are made:

1. On page 62200, in the first column, under ADDRESSES, correct to read:

You may submit written comments online at http://www.regulations.gov by entering “DOI-2021-0013” in the Search bar and clicking “Search” or by mail to Draft List of Critical Minerals, MS-102, U.S. Geological Survey, 12201 Sunrise Valley Dr., Reston, VA 20192.

2. On page 62203, in the second column, correct the BILLING CODE to read:

4338-11.

Dated: November 12, 2021.
Dionne Duncan-Hughes,
Federal Liaison Officer, USGS.

[FR Doc. 2021-25055 Filed 11-16-21; 8:45 am]

BILLING CODE 4338-11-P